DEPARTMENT OF ENERGY

Federal Energy Regulatory Commission

Combined Notice of Filings—2

Take notice that the Commission has received the following Natural Gas Pipeline Rate and Refund Report filings:

Filings Instituting Proceedings

Docket Numbers: RP22-789-000.

Applicants: Natural Gas Pipeline Company of America LLC.

Description: § 4(d) Rate Filing: Negotiated Rate Agreement Filing—Constellation Energy to be effective 4/1/2022.

Filed Date: 4/1/22.

Accession Number: 20220401-5018.

Comment Date: 5 p.m. ET 4/13/22.

Docket Numbers: RP22-790-000.

Applicants: Natural Gas Pipeline Company of America LLC.

Description: § 4(d) Rate Filing: Negotiated Rate Agreement Filing—Macquarie Energy 4/1/2022 to be effective 4/1/2022.

Filed Date: 4/1/22.

Accession Number: 20220401-5020.

Comment Date: 5 p.m. ET 4/13/22.

Docket Numbers: RP22-791-000.

Applicants: Natural Gas Pipeline Company of America LLC.

Description: § 4(d) Rate Filing: Amendment to a Negotiated Rate Agreement Filing—Spire Marketing Inc. to be effective 4/1/2022.

Filed Date: 4/1/22.

Accession Number: 20220401-5021.

Comment Date: 5 p.m. ET 4/13/22.

Docket Numbers: RP22-792-000.

Applicants: Equitrans, L.P.

Description: § 4(d) Rate Filing: Negotiated Rate Capacity Release Agreements—4/1/2022 to be effective 4/1/2022.

Filed Date: 4/1/22.

Accession Number: 20220401-5023.

Comment Date: 5 p.m. ET 4/13/22.

Docket Numbers: RP22-793-000.

Applicants: Natural Gas Pipeline Company of America LLC.

Description: § 4(d) Rate Filing: Negotiated Rate Agreement Filing—Sempra Gas 4/1/2022 to be effective 4/1/2022.

Filed Date: 4/1/22.

Accession Number: 20220401-5082.

Comment Date: 5 p.m. ET 4/13/22.

Docket Numbers: RP22-794-000.

Applicants: Natural Gas Pipeline Company of America LLC.

Description: § 4(d) Rate Filing: Negotiated Rate Agreement Filing—Mercuria Energy 4/1/2022 to be effective 4/1/2022.

Filed Date: 4/1/22.

Accession Number: 20220401-5084.

Comment Date: 5 p.m. ET 4/13/22.

Docket Numbers: RP22-795-000.

Applicants: Florida Gas Transmission Company, LLC.

Description: § 4(d) Rate Filing: Update to NRA Footnote 4-1-22 to be effective 4/1/2022.

Filed Date: 4/1/22.

Accession Number: 20220401-5088.

Comment Date: 5 p.m. ET 4/13/22.

Docket Numbers: RP22-796-000.

Applicants: Panhandle Eastern Pipe Line Company, LP.

Description: § 4(d) Rate Filing: Update NRA Footnote 4-1-2022 to be effective 4/1/2022.

Filed Date: 4/1/22.

Accession Number: 20220401-5095.

Comment Date: 5 p.m. ET 4/13/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 1, 2022.
Debbie-Anne A. Reese,
Deputy Secretary.

[FR Doc. 2022-07430 Filed 4-6-22; 8:45 am]

BILLING CODE 6717-01-P